DEPARTMENT OF ENERGY

Federal Energy Regulatory Commission

[Project No. 2444-042]

Northern States Power Company; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: Subsequent Minor License.

b. Project No.: 2444-042.

c. Date Filed: July 21, 2023.

d. Applicant: Northern States Power Company (Northern States).

e. Name of Project: White River Hydroelectric Project (project).

f. Location: On the White River in Ashland and Bayfield Counties, Wisconsin.

g. Filed Pursuant to: Federal Power Act, 16 U.S.C. 791(a)-825(r).

h. Applicant Contact: Mr. Matthew Miller, Environmental Analyst, Northern States Power Company—Wisconsin, 1414 W Hamilton Avenue, P.O. Box 8, Eau Claire, WI 54702; telephone at (715) 737-1353; email at matthew.j.miller@xcelenergy.com.

i. FERC Contact: Nicholas Ettema, Project Coordinator, Great Lakes Branch, Division of Hydropower Licensing; telephone at (312) 596-4447; email at nicholas.ettema@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. All filings must clearly identify the project name and docket number on the first page: White River Hydroelectric Project (P-2444-042).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The project includes an approximately 782.3-foot-long earthen and concrete dam that includes: (1) a 400-foot-long, 37-foot-high north earthen embankment; (2) a 22-foot-long, 37-foot-high concrete intake structure equipped with an approximately 16-foot-long, 20-foot-high trashrack with 1.25-inch clear bar spacing, and an approximately 16-foot-long, 20-foot-high stoplog gate upstream of the trashrack; (3) an approximately 60.3-foot-long, 35-foot-high concrete gated spillway section that includes: (a) a 25-foot-long, 19-foot-high bottom Tainter gate and a 25-foot-long, 6-foot-high top Tainter gate; (b) a 4-foot-long pier; and (c) a 25-foot-long, 26.5-foot-high Tainter gate; and (4) a 300-foot-long, 37-foot-high south earthen embankment. The dam creates an impoundment that has a surface area of 39.9 acres at a normal elevation of 711.6 feet National Geodetic Vertical Datum of 1929 (NGVD 29).

From the impoundment, water flows through the intake structure to a 7-foot-diameter, 1,345-foot-long concrete pipe that conveys water to a 16-foot-diameter, 62-foot-high steel surge tank and two 30-foot-long steel penstocks. The penstocks provide water to a 700-kilowatt (kW) horizontal Francis turbine-generator unit and a 500-kW horizontal Francis turbine-generator unit, for a total installed capacity of 1,200 kW. The turbine-generators are in a 69-foot-long, 39-foot-wide concrete and brick masonry powerhouse. Water is discharged from the powerhouse to a 120-foot-long, 40-foot-wide tailrace. The project creates an approximately 1,400-foot-long bypassed reach of the White River. A 4.5-foot-long, 1-foot-diameter steel pipe conveys flow from the intake structure to the bypassed reach immediately downstream of the dam.

Project recreation facilities include: (1) a boat access site and canoe portage take-out site at the north embankment of the dam; (2) an approximately 2,260-foot-long canoe portage trail; (3) a canoe put-in site approximately 90 feet downstream of the powerhouse; and (4) a tailrace fishing area.

Electricity generated at the project is transmitted to the electric grid via a 220-foot-long, 2.4-kilovolt (kV) transmission line and a 2.4/69-kV step-up transformer. The minimum and maximum hydraulic capacities of the powerhouse are 50 and 350 cfs, respectively. The average annual energy production of the project from 2017 through 2022, was 4,927 megawatt-hours.

The current license requires Northern States to: (1) operate in a run-of-river mode, such that outflow from the project approximates inflow and the impoundment is maintained at an elevation of 710.4 to 711.6 feet NGVD 29; (2) manage any non-emergency drawdown so the reservoir drawdown rate does not exceed 12 inches per 24 hours for the first 48 hours and 6 inches per 24 hours after that; (3) release a minimum flow of 16 cubic feet per second (cfs) or inflow, whichever is less, to the bypassed reach; and (4) implement an operation compliance monitoring plan, land management plan, fly ash/cinders monitoring plan, and purple loosestrife monitoring plan.

Northern States does not propose to add any new project facilities. However, Northern States proposes to revise the project boundary around the impoundment to follow a contour elevation of 711.6 NGVD 29, which would result in a reduction in the total acreage of the project boundary upstream of the dam from 76.5 to 39.9 acres. Additionally, Northern States proposes the following changes to the project boundary: (1) remove approximately 38.8 acres of land north of the project's access road and approximately 12 acres of land northeast of the powerhouse; (2) add approximately 0.3 acre of land associated with the substation that includes the project's transformer; (3) add approximately 0.6 acre of land associated with the project's access road; (4) add approximately 1.3 acres of water in the White River downstream of the project; and (5) add approximately 0.3 acre of land east of the south earthen embankment.

Northern States proposes to: (1) continue operating the project in a run-of-river mode and maintaining the surface elevation of the impoundment between 710.4 and 711.6 feet NGVD 29; (2) continue releasing a minimum flow of 16 cfs or inflow, whichever is less, to the bypassed reach at all times; (3) develop an operation compliance monitoring plan; (4) conduct shoreline erosion surveys every ten years; (5) develop an invasive species monitoring plan; (6) pass woody debris from the impoundment to the bypassed reach; (7) replace recreational signage; (8) maintain project recreation facilities; (9) protect bats by restricting building and tree maintenance; (10) protect wood turtles by restricting herbicide use; (11) avoid vegetation management and construction activities within 660 feet of bald eagle nests during the nesting season; and (12) develop a historic properties management plan to protect historic properties.

m. A copy of the application can be viewed on the Commission's website at http://www.ferc.gov using the “eLibrary” link. Enter the docket number excluding the last three digits in the docket number field to access the document (i.e., P-2444). For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

o. The applicant must file no later than 60 days following the date of issuance of this notice: (1) a copy of the water quality certification; (2) a copy of the request for certification, including proof of the date on which the certifying agency received the request; or (3) evidence of waiver of water quality certification.

p. Procedural Schedule: The application will be processed according to the following schedule. Revisions to the schedule will be made as appropriate.

Milestone | Target date
Filing of Comments, Recommendations, Terms and Conditions, and Prescriptions | August 2024.
Filing of Reply Comments | September 2024.

q. Final amendments to the application must be filed with the Commission no later than 30 days from the issuance date of this notice.

Dated: June 14, 2024.
Debbie-Anne A. Reese,
Acting Secretary.

[FR Doc. 2024-13720 Filed 6-21-24; 8:45 am]

BILLING CODE 6717-01-P